DEPARTMENT OF THE INTERIOR

Bureau of Land Management

[NM-070-1430-01; NMNM111069]

Notice of Realty Action; Direct Sale of Public Land, Rio Arriba County, New Mexico

AGENCY: Bureau of Land Management, Interior.

ACTION: Notice of realty action.

SUMMARY: The Bureau of Land Management (BLM) proposes to dispose of 22.07 acres of Federal land in Rio Arriba County, New Mexico by direct sale to the existing tenant in possession of the land.

DATES: Submit comments regarding the proposed sale to BLM on or before March 28, 2005.

ADDRESSES: Comments should be mailed or delivered to: Field Manager, Farmington Field Office, Bureau of Land Management, 1235 La Plata Highway, Farmington, NM 87401.

The BLM Field Manager, Farmington Field Office, will review any adverse comments and may sustain, vacate, or modify this realty action. In the absence of any adverse comments, this realty action becomes the final determination of the Department of the Interior and will take effective on April 11, 2005.

FOR FURTHER INFORMATION CONTACT: Mary Jo Albin, Realty Specialist, at the BLM, Farmington Field Office, at (505) 599-6332. Information related to this action, including the environmental assessment, Environmental Site Assessment and appraisal, are available for review at the BLM, Farmington Field Office at the address stated above.

SUPPLEMENTARY INFORMATION: The BLM proposes to dispose of the following described lands in Rio Arriba County, New Mexico by direct sale pursuant to section 203 of the Federal Land Policy and Management Act of October 21, 1976 (43 U.S.C. 1713): New Mexico Principal Meridian, T. 23 N., R. 6 W., Sec. 18: Lots 8, 11, Containing 22.07 acres.

The fair market value (FMV) for the lands, exclusive of improvements, is $26,484.00 as determined by a current appraisal conducted in accordance with Department of the Interior policies and guidelines. Disposal of the land conforms to the BLM land use plan for the area.

The proposed purchaser is Merrion Oil & Gas Corporation (Merrion) of Farmington, New Mexico. For many years, Merrion has occupied the above described lands as the tenant under a lease for an oil and gas field storage yard and operating center. The parcel of Federal land proposed for sale has been surveyed and reduced to the 22.07 acres occupied by the storage yard and operating center. The proposed direct sale recognizes the current authorized uses of the Federal land by Merrion and the substantial economic loss that could occur to Merrion if the land was purchased by another party, consistent with the provisions of 43 CFR 2711.3-3(a)(3). These uses over time may have also resulted in the release or disposal of hazardous substances onto the leased land under Merrion's possession and control, thus, if such is the case, subjecting the United States, as owner of the land, to compliance with the requirements of section 120(h) of the Comprehensive Environmental Response Compensation and Liability Act, as amended (CERCLA), 42 U.S.C. 9620(h). Merrion is aware of its CERCLA responsibilities as a potential responsible party (PRP) and proposes to continue to use the lands as a storage yard and operation center with related buildings and facilities. Because Merrion is a PRP as to the leased land, Interior is not required to provide the covenants specified in section 120(h)(3)(A)(ii) of CERCLA., when and if it sells the land to Merrion.

The sale, will contain and be subject to the following:

1. Reservation to the United States of a right-of-way for ditches and canals in accordance with 43 U.S.C. 945.

2. Reservation to the United States of all minerals.

3. Valid existing rights, including but not limited to easements, licenses, permits or leases, whether or not of record.

4. The information required by CERCLA section 120(h)(3)(A)(i) to be set forth in the deed.

5. The indemnity provisions set forth as a separate paragraph immediately below in this Notice.

By accepting title, Merrion, for itself, its successors, assigns and grantees, agrees to indemnify the United States against any liability arising from the release or threatened release of hazardous waste on this property. This agreement applies without regard to whether a release is caused by the proponent, their agent, or unrelated third parties.

The proposed sale and conveyance of the above described lands will be in the public interest, because it will enhance economic development by allowing Merrion to further develop and improve the lands free of existing lease restrictions and it will relieve the United States of any requirement it may be subject to under section 120(h)(3)(A)(ii) of CERCLA.

Publication of this notice temporarily segregates the public land described above from all forms of appropriation under the public land laws, including the general mining laws, except for sale under Section 203 of the Federal Land Policy and Management Act of 1976.

Dated: September 1, 2004.
Ray Sanchez,
Supervisor for Lands & Realty.

[FR Doc. 05-2538 Filed 2-9-05; 8:45 am]

BILLING CODE 4310-VB-P